DEPARTMENT OF TRANSPORTATION

National Highway Traffic Safety Administration

[Docket No. NHTSA-2004-17901; Notice 1]

Yokohama Tire Corporation, Receipt of Petition for Decision of Inconsequential Noncompliance

Yokohama Rubber Co., Ltd. of Tokyo Japan has determined that certain tires that it manufactured in 2000 do not comply with S4.3(c) of 49 CFR 571.109, Federal Motor Vehicle Safety Standard (FMVSS) No. 120, “New pneumatic tires.” Yokohama Tire Corporation (Yokohama) on behalf of Yokohama Rubber Co., Ltd. has filed an appropriate report pursuant to 49 CFR part 573, “Defect and Noncompliance Reports.”

Pursuant to 49 U.S.C. 30118(d) and 30120(h), Yokohama has petitioned for an exemption from the notification and remedy requirements of 49 U.S.C. chapter 301 on the basis that this noncompliance is inconsequential to motor vehicle safety.

This notice of receipt of Yokohama's petition is published under 49 U.S.C. 30118 and 30120 and does not represent any agency decision or other exercise of judgment concerning the merits of the petition.

Yokohama Rubber Co., Ltd. produced size 185R14 8PR Y356 tires during 2002 whose load range is “D” but are incorrectly labeled on the tire sidewall as having a load range “C,” adjacent to the correct ply rating “D.” Therefore, they do not comply with FMVSS No. 109 S4.3(c), which requires that “each tire shall have permanently molded into or onto both sidewalls * * * (c) Maximum load rating.” Although 424 tires were manufactured with the incorrect load range, 294 of the tires were found and quarantined to prevent sales and distribution. However 130 tires are unaccounted for and are considered distributed and sold into the United States market. It is these 130 tires that are the subject of this petition.

Yokohama believes that the noncompliance is inconsequential to motor vehicle safety and that no corrective action is warranted. Yokohama states that reliance upon the misbranding of load range “C” would not pose any threat to motor vehicle safety since the tire's actual carrying capability by specification is load range “D.” “The tires' true capability exceeds that of * * * operating if the ‘C’ load range designation is used by the customer to determine load capacity and inflation.”

Interested persons are invited to submit written data, views, and arguments on the petition described above. Comments must refer to the docket and notice number cited at the beginning of this notice and be submitted by any of the following methods. Mail: Docket Management Facility, U.S. Department of Transportation, Nassif Building, Room PL-401, 400 Seventh Street, SW., Washington, DC 20590-0001. Hand Delivery: Room PL-401 on the plaza level of the Nassif Building, 400 Seventh Street, SW., Washington, DC. It is requested, but not required, that two copies of the comments be provided. The Docket Section is open on weekdays from 10 a.m. to 5 p.m. except Federal holidays. Comments may be submitted electronically by logging onto the Docket Management System Web site at http://dms.dot.gov. Click on “Help” to obtain instructions for filing the document electronically. Comments may be faxed to 1-202-493-2251, or may be submitted to the Federal eRulemaking Portal: go to http://www.regulations.gov. Follow the online instructions for submitting comments.

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: July 6, 2004.

(Authority: 49 U.S.C. 30118, 30120: delegations of authority at CFR 1.50 and 501.8.)
Issued on: May 27, 2004.
Kenneth N. Weinstein,
Associate Administrator for Enforcement.

[FR Doc. 04-12616 Filed 6-2-04; 8:45 am]

BILLING CODE 4910-59-P